OFFICE OF PERSONNEL MANAGEMENT

5 CFR Part 550

RIN 3206-AI78

Payments During Evacuation

AGENCY: Office of Personnel Management.

ACTION: Final rule.

SUMMARY: The Office of Personnel Management (OPM) is issuing final regulations to raise the age requirement for payment of the maximum per diem rate for a dependent of an evacuated civilian employee from age 11 to age 12. This applies to evacuations in the United States because of natural disasters or for military or other reasons that create an imminent danger to life. This final rule makes OPM's regulations consistent with Department of Defense (DOD) evacuation regulations, which require that an evacuated dependent of a uniformed member be 12 years of age or older to receive the maximum per diem rate.

DATES: Effective Date: The regulations are effective and applicable on August 7, 2000.

FOR FURTHER INFORMATION CONTACT: Roger Knadle, (202) 606-2858, FAX: (202) 606-0824, or email at payleave@opm.gov.

SUPPLEMENTARY INFORMATION: Office of Personnel Management (OPM) regulations on payments during evacuation are found in subpart D of 5 CFR part 550. The regulations are based on provisions of law in 5 U.S.C. 5522-5524, 5526, and 5527, and on authority in Executive Order 10982, 3 CFR 1959-1963, p. 502. Federal agencies make evacuation payments under these authorities to employees and/or their dependents who are ordered to be evacuated because of natural disasters or for military or other reasons that create imminent danger to the lives of the employees or their dependents.

On December 15, 1999, OPM published proposed changes in the evacuation pay regulations in the Federal Register (64 FR 69936), as requested by the Department of Defense (DOD). We proposed to increase the age requirement for payment of the maximum per diem rate for dependents of evacuated civilian employees from age 11 to age 12. We also proposed to compute the maximum per diem rate by using the “lodgings-plus per diem system,” as defined in section 300-3.1 of the Federal Travel Regulation.

The Federal Register notice provided that OPM must receive comments on the proposed regulations within 30 days, or by January 14, 2000. We received no comments on the proposed regulations. Therefore, we are adopting the proposed regulations as final without any substantive changes.

E.O. 12866, Regulatory Review

The Office of Management and Budget has reviewed this rule in accordance with E.O. 12866.

Regulatory Flexibility Act

I certify that these regulations will not have a significant impact on a substantial number of small entities because they will apply only to Federal agencies and employees.

List of Subjects in 5 CFR Part 550

Administrative practice and procedure, Claims, Government employees, Wages.

U.S. Office of Personnel Management
Janice R. Lachance,
Director.

Accordingly, OPM is amending subpart D of part 550 of title 5 of the Code of Federal Regulations as follows:

PART 550—PAY ADMINISTRATION (GENERAL)

Subpart D—Payments During Evacuation

1. The authority citation for subpart D of part 550 is revised to read as follows:

Authority: 5 U.S.C. 5527; E.O. 10982, 3 CFR 1959-1963, p. 502.

2. In § 550.401, paragraph (a) is revised to read as follows:

§ 550.401 Purpose, applicability, authority, and administration.

(a) Purpose. This subpart provides regulations to administer subchapter III (except sections 5524a and 5525) of chapter 55 of title 5, United States Code. The regulations provide for Governmentwide uniformity in making payments during an evacuation to employees or their dependents, or both, who are evacuated in the United States because of natural disasters or for military or other reasons that create imminent danger to their lives.

* * * * *

3. In § 550.402, the definition of United States area is removed, and a new definition of United States is added in alphabetical order to read as follows:

§ 550.402 Definitions.

* * * * *

United States means the 50 States, the District of Columbia, the Commonwealths of Puerto Rico and the Northern Mariana Islands, and any territory or possession of the United States.

4. In § 550.405, paragraphs (a) and (b)(1) are revised to read as follows:

§ 550.405 Determination of special allowances.

* * * * *

(a) An agency must determine the travel expenses and per diem for an evacuated employee and the travel expenses for his or her dependents in accordance with the Federal Travel Regulation (FTR) and any applicable implementing agency regulations, whether or not the employee or dependents are actually covered by or subject to the FTR. In addition, an agency may authorize per diem for dependents of an evacuated employee at a rate equal to the rate payable to the employee, as determined in accordance with the FTR (except that the rate for dependents under 12 years of age is one-half this rate), whether or not the employee or dependents are actually covered by or subject to the FTR. Per diem for an employee and his or her dependents is payable from the date of departure from the evacuated area through the date of arrival at the safe haven, including any period of delay en route that is beyond an evacuee's control or that may result from evacuation travel arrangements.

(b) * * *

(1) An agency must compute the applicable maximum per diem rate by using the “lodgings-plus per diem system,” as defined in the FTR, for the employee and each dependent who is 12 years of age or over. For each dependent under 12 years of age, the per diem rate is one-half of the applicable maximum per diem rate for employees and dependents who are 12 years of age or over. An agency may pay these maximum rates for a period not to exceed the first 30 days of evacuation.

* * * * *

[FR Doc. 00-17193 Filed 7-6-00; 8:45 am]

BILLING CODE 6325-01-P